DEPARTMENT OF THE INTERIOR

Bureau of Land Management

[LLNMF020000 L14400000.EQ0000 19XL1109AF; NMNM 124890]

Notice of Realty Action; Recreation and Public Purposes Act Classification for Lease of Public Lands in Santa Fe County, New Mexico

AGENCY: Bureau of Land Management, Department of Interior.

ACTION: Notice.

SUMMARY: The Bureau of Land Management (BLM) has examined, and found suitable for classification for lease and subsequent conveyance under the provisions of the Recreation and Public Purposes (R&PP) Act, as amended, 23.39 acres of public land in Santa Fe County, New Mexico. Santa Fe County proposes to use the land to develop a multiuse accessible trail along the Santa Fe River as part of the Santa Fe River Trail Project.

DATES: Interested parties may submit written comments regarding the proposed classification of the land for lease and subsequent conveyance. Please submit written comments to Marc Jackson, Taos Field Office Manager, at the address below on or before December 2, 2019.

ADDRESSES: Written comments should be addressed to the BLM, Marc Jackson, Taos Field Office Manager, 226 Cruz Alta Rd, Taos, NM 87571-5983. Please reference “R&PP of Public Lands to Santa Fe County for Santa Fe River Trail Project” on all correspondence.

FOR FURTHER INFORMATION CONTACT: Sarah Naranjo, Realty Specialist, New Mexico State Office, 505-954-2200, email: snaranjo@blm.gov, or at the above address. Persons who use a telecommunications device for the deaf (TDD) may call the Federal Relay Service (FRS) at 1-800-877-8339 to contact the above individual during normal business hours. The FRS is available 24 hours a day, 7 days a week, to leave a message or question for the above individual. Replies are provided during normal business hours.

SUPPLEMENTARY INFORMATION: The following described public land has been examined and found suitable for classification for lease and subsequent conveyance to Santa Fe County under Section 7 of the Taylor Grazing Act (43 U.S.C. 315f), and the provisions of the R&PP Act, as amended (43 U.S.C. 869 et seq.):

New Mexico Principal Meridian

T. 16 N., R. 9 E.,

Sec. 6, lots 31, 33;

T. 17 N., R 9 E.,

Sec. 31, lots 18, 21, 22, 23, 24, 26, 28, 30.

The area described contains approximately 23.39 acres in Santa Fe County, New Mexico. The land is not needed for any Federal purpose, and is not of national significance. Conveyance is consistent with the BLM Taos Resource Management Plan, May 2012, and would be in the public interest. The proposed action increases public access by creating a long distance river trail from historic downtown Santa Fe to outer stretches of the city and into Santa Fe County. It is in compliance with Secretary Order 3373 to ensure that recreational public access of Federal land is an important consideration of any disposal of land.

The lease and conveyance, when issued, will be subject to the provisions of the R&PP Act, and applicable regulations of the Secretary of the Interior, and will contain the following reservations to the United States:

1. Right-of-way (ROW) NMNM 077262 issued to City of Santa Fe Water Division for a water pipeline to provide water to the surrounding residents across the subject parcels.

2. ROW NMNM 094983 issued to Richard Montoya for a water pipeline to his private property and residential home across the subject parcels.

3. A ROW thereon for ditches or canals constructed by authority of the United States pursuant to the Act of August 30, 1890, 43 U.S.C. 945.

4. All minerals shall be reserved to the United States, together with the right to prospect for, mine, and remove the minerals under applicable laws and such regulations as the Secretary of the Interior may prescribe including all necessary access and exit rights.

5. Any lease and conveyance will be subject to all valid existing rights.

6. Any other terms or conditions that the Authorized Officer determines appropriate to ensure public access and proper management of the Federal land and interests therein. Subject to limitations prescribed by law and regulations, prior to conveyance, a holder of any ROW within the conveyed area may be given the opportunity to amend the ROW for conversion to a new term, including perpetuity, if applicable. Detailed information concerning this proposed project, including, but not limited to documentation relating to compliance with applicable environmental and cultural resource laws, is available for review at the BLM Taos Field Office at the address above.

Upon publication of this Notice in the Federal Register, the land described above will be segregated from all other forms of appropriation under the public land laws, including the general mining laws, except for conveyance under the R&PP Act, leasing under the mineral leasing laws. The segregation shall expire after an 18-month term regardless of whether or not a lease has been issued.

Classification Comments: Interested parties may submit comments involving the suitability of the land for the proposed facility. Comments on the classification are restricted to whether the land is physically suited for the proposal, whether the use will maximize the future use (or uses) of the land, whether the use is consistent with local planning and zoning, or whether the use is consistent with State and Federal Programs.

Application Comments: Interested parties may submit comments regarding the specific use proposed in the application and plan of development and management, and whether the BLM followed proper administrative procedures in reaching the decision to convey under the R & PP Act.

The BLM New Mexico State Director will review any adverse comments and may sustain, vacate, or modify this realty action. In the absence of any adverse comments, the classification of the land described in this Notice will become effective December 16, 2019. The land will not be available for conveyance until after the classification becomes effective.

Before including your address, phone number, email address, or other personal identifying information in your comment, you should be aware that your entire comment—including your personal identifying information—may be made publicly available at any time. While you can ask us in your comment to withhold your personal identifying information from public review, we cannot guarantee that we will be able to do so.

(Authority: 43 CFR 2741.5)

Melanie G. Barnes,
Deputy State Director, Land and Resources.

[FR Doc. 2019-22563 Filed 10-15-19; 8:45 am]

BILLING CODE 4310-FB-P